OFFICE OF PERSONNEL MANAGEMENT

5 CFR Part 213

RIN 3206-AK59

Excepted Service—Student Program

AGENCY: Office of Personnel Management.

ACTION: Proposed rule.

SUMMARY: The Office of Personnel Management (OPM) is issuing proposed regulations to allow certain job-related experience acquired in a structured work-study program to be credited under the Student Career Experience Program. The proposed change would permit agencies to credit a student's job-related work-study experience toward the minimum requirement for conversion to a permanent appointment under the Program.

ADDRESSES: Send, fax, or deliver written comments to Mark Doboga, Deputy Associate Director, Center for Talent and Capacity Policy, U.S. Office of Personnel Management, 1900 E Street, NW., Room 6500, Washington, DC 20415, e-mail: employ@opm.gov, FAX: 202-606-2329.

Comments may also be sent through the Federal eRulemaking Portal at: http://www.regulations.gov. All submissions received through the Portal must include the agency name and docket number or Regulation Identifier Number (RIN) for this rulemaking.

DATES: Comments will be considered if received by May 16, 2005.

FOR FURTHER INFORMATION CONTACT: Pam Galemore, 202-606-0960, FAX: 202-606-2329, TDD: (202) 606-0023, or e-mail: pamela.galemore@opm.gov.

SUPPLEMENTARY INFORMATION: The Student Career Experience Program (SCEP or Program), a component of the Student Educational Employment Program, was established by Executive Order 12015 to permit students completing approved career-related work-study programs to be appointed non-competitively to career or career-conditional positions in the competitive service. OPM has implemented the Executive order by regulation in section 213.3202(b) of title 5, Code of Federal Regulations. The Program permits Federal agencies to appoint students attending a high school, an accredited technical or vocational school, 2 or 4-year college or university, or graduate or professional school to positions in the excepted service so that they may gain work experience that is related to and complements their academic course of study. The regulation also authorizes a Federal agency to appoint students who meet the requirements set forth in section 213.3202(b)(11) without further competition to positions in the competitive civil service. The Program gives students valuable work experience in a field related to their academic course of study and allows them to experience firsthand the rewards of public service; at the same time, it gives an agency the opportunity to observe students' job performance in the work environment and evaluate them as potential employees.

OPM has refined the Program over time, reducing the required number of work-related hours for noncompetitive appointment (from 1040 to 640 hours) and expanding the types of academic degrees that qualify a student for the Program. The original intent has remained constant: to provide students with an integrated program of academic study and related work experience while building a candidate pool of promising, high-potential graduates for entry-level positions in the Federal civil service.

OPM proposes to modernize the Program to reflect current trends in student employment. Proposed revisions include a provision that would allow an agency to credit up to 320 hours of job-related experience gained in other formal (and comparable) work-study programs towards SCEP requirements. The proposed regulations would also allow an agency to credit job-related experience acquired by a degree-seeking student as an active duty member of the armed forces of the United States (including the National Guard and the Reserves). Finally, the proposed regulations would permit an agency to waive up to one-half of the required SCEP work experience hours for those students who have exceptional job performance and academic excellence while enrolled in the Program (or equivalent).

These proposed changes reflect contemporary student employment trends and allow Federal agencies to take advantage of relevant, job-related experience acquired in public service work-study programs that are as rigorous as programs they may themselves offer. For example, many promising students today serve in Federal agencies under stipend programs, non-Federal internships, scholarships, or grants; such experience is comparable to that gained under SCEP, but because the student may not have been employed directly by the agency, it does not count towards SCEP requirements. OPM believes that with sufficient rigor, some portion of such service would clearly meet the Program's intent and should be so credited. This proposed regulatory change will permit agencies to evaluate and accept a promising student's job-related work-study experience, even if some of that experience was acquired in non-Federal positions.

Credit for non-Federal work experience and the waiver of up to one-half of minimum work experience would apply only to SCEP students enrolled in accredited colleges and universities.

The proposed regulations also revise the definition of “student” in sections 213.3202(a)(2) and (b)(2) to specify that schools must be accredited by an accrediting body recognized by the Secretary of the U.S. Department of Education or, for high schools, have a curriculum approved by a State or local governing body. The regulations also expand current policy to allow credit for related work experience, as determined by the agency, gained during any Student Educational Employment Program appointment.

We seek comments from reviewers as to whether they believe this rule would give certain students an unfair advantage over others, such as fellows appointed under 5 CFR 213.3102(r) or student volunteers under 5 CFR 308. This proposal does not allow agencies to credit up to 320 hours of a fellow's or student volunteer's job-related experience towards SCEP requirements.

Regulatory Flexibility Act

I certify that this regulation will not have a significant economic impact on a substantial number of small entities because it affects only certain Federal employees.

Executive Order 12866, Regulatory Review

This rule has been reviewed by the Office of Management and Budget in accordance with Executive Order 12866.

List of Subjects in 5 CFR Part 213

Government employees, Reporting and recordkeeping requirements.

Office of Personnel Management.
Dan G. Blair,
Acting Director.

Accordingly, OPM proposes to amend 5 CFR Part 213 as follows:

PART 213—EXCEPTED SERVICE

1. The authority citation for part 213 is revised to read as follows:

Authority: 5 U.S.C. 3161; 5 U.S.C. 3301 and 3302; E.O. 10577, 3 CFR 1954-1958 Comp., p. 218; Sec. 213.101 also issued under 5 U.S.C. 2103; Sec. 213.3102 also issued under 5 U.S.C. 3301, 3302, 3307, 8337(h) and 8456; E.O. 13318, 68 FR 66317, Nov. 25, 2003; 38 U.S.C. 4301 et seq.; Pub. L. 105-339, 112 Stat 3182-83; and E.O. 13162, 65 FR 43211, July 12, 2000.

2. Revise § 213.3202, paragraphs (a)(2), (b)(2), and (b)(11) to read as follows:

§ 213.3202 Entire executive civil service.

(a) * * *

(2) Definition of student: A student is an individual who has been accepted for enrollment or who is enrolled and seeking a degree (diploma, certificate, etc.) in a high school whose curriculum has been approved by a State or local governing body, or in a technical or vocational school, 2-year or 4-year college or university, or graduate or professional school, that has been accredited by an accrediting body recognized by the Secretary of the U.S. Department of Education. The definition of half-time is the definition provided by the school in which the student is enrolled. Students need not be in actual physical attendance, so long as all other requirements are met. An individual who needs to complete less than the equivalent of half an academic/vocational or technical course-load in the class enrollment period immediately prior to graduating is still considered a student for purposes of this program.

* * * * *

(b) * * *

(2) Definition of student: A student is an individual who has been accepted for enrollment or who is enrolled and seeking a degree (diploma, certificate, etc.) in a high school whose curriculum has been approved by a State or local governing body, or in a technical or vocational school, 2-year or 4-year college or university, or graduate or professional school, that has been accredited by an accrediting body recognized by the Secretary of the U.S. Department of Education. The definition of half-time is the definition provided by the school in which the student is enrolled. Students need not be in actual physical attendance, so long as all other requirements are met. An individual who needs to complete less than the equivalent of half an academic/vocational or technical course-load in the class enrollment period immediately prior to graduating is still considered a student for purposes of this program.

* * * * *

(11) Program requirements for noncompetitive conversion. (i) A student who is a U.S. citizen may be noncompetitively converted from the Student Career Experience Program to a term, career or career-conditional appointment under Executive Order 12015 (as amended by Executive Order 13024) when the student has:

(A) Completed at least 640 hours of career-related work experience acquired through a Federal work-study program while otherwise enrolled as a full-time or part-time, degree-seeking student. Up to 320 hours acquired through a comparable non-Federal work-study program meeting the criteria set forth in paragraph (b)(11)(ii) of this section may be credited toward the 640-hour minimum for students pursuing degrees under paragraphs (b)(1)(i)(D) through (F) of this section;

(B) Completed a course of academic study from an accredited school conferring a diploma, certificate, or degree, within the 120-day period preceding the appointment;

(C) Received a favorable recommendation regarding such an appointment by an official of the agency or agencies in which the job-related work experience was acquired; and

(D) Met the qualification standards for the position to which the student will be appointed.

(ii) To be creditable under paragraph (b)(11)(i)(A) of this section, work experience must be in a field or functional area that is generally related to the student's target position/career field and must be acquired either under a Student Educational Employment Program appointment or while the student:

(A) Worked in, but not for, a Federal agency, pursuant to a formal work-study agreement between the agency and the accredited academic institution;

(B) Worked in, but not for, a Federal agency, pursuant to a written contract between the agency and an organization officially established to provide internship experiences to students; or

(C) Served as a member in good standing of the armed forces of the United States (including the National Guard and Reserves), as defined in 5 U.S.C. 2101.

(iii) Agencies may waive up to one-half (i.e., 320 hours) of the 640-hour minimum service requirement in paragraph (b)(11)(i)(A) of this section if a student enrolled in an accredited college or university completes 320 hours of career-related work experience under a Student Educational Employment Program appointment and has demonstrated high potential, as evidenced by outstanding academic achievement and exceptional job performance.

(A) Outstanding academic achievement must be demonstrated by an overall grade point average of 3.5 or better, on a 4.0 scale; standing in the top 10 percent of the student's graduating class; and/or induction into a nationally-recognized scholastic honor society (see the definition of superior academic achievement in OPM's Qualifications Standards for General Schedule Positions available on the OPM Web site at http://www.opm.gov).

(B) Exceptional job performance must be demonstrated by a formal evaluation conducted by the student's work-study supervisor(s), in a manner consistent with the applicable performance appraisal program established under an approved performance appraisal system.

(iv) Service credited under paragraphs (b)(ii)(A) and (B) of this section is not creditable for any other purpose of this chapter. Student volunteer service under part 308 of this chapter may not be credited under this section.

(v) Noncompetitive conversion may be to a position within the same agency or any other agency within the Federal Government but must be to an occupation related to the student's academic training and work-study experience.

(vi) Agencies that noncompetitively convert a Student Career Experience Program graduate to a term appointment may also noncompetitively convert that individual to a career or career-conditional appointment before the term appointment expires.

* * * * *

[FR Doc. 05-5179 Filed 3-15-05; 8:45 am]

BILLING CODE 6325-39-P